ENVIRONMENTAL PROTECTION AGENCY

40 CFR Part 52

[EPA-R03-OAR-2012-0468; FRL-9731-7]

Approval and Promulgation of Air Quality Implementation Plans; Maryland-Revision for the Control of Volatile Organic Compounds Emissions From Vehicle Refinishing

AGENCY: Environmental Protection Agency (EPA).

ACTION: Final rule.

SUMMARY: EPA is approving a State Implementation Plan (SIP) revision submitted by the State of Maryland pertaining to “Control of Volatile Organic Compounds Emissions from Vehicle Refinishing.” The SIP revision establishes new volatile organic compounds (VOC) content limits and standards for coating and cleaning solvents used in vehicle refinishing. This action is being taken under the Clean Air Act (CAA).

DATES: This final rule is effective on October 26, 2012.

ADDRESSES: EPA has established a docket for this action under Docket ID Number EPA-R03-OAR-2012-0468. All documents in the docket are listed in the www.regulations.gov Web site. Although listed in the electronic docket, some information is not publicly available, i.e., confidential business information (CBI) or other information whose disclosure is restricted by statute. Certain other material, such as copyrighted material, is not placed on the Internet and will be publicly available only in hard copy form. Publicly available docket materials are available either electronically through www.regulations.gov or in hard copy for public inspection during normal business hours at the Air Protection Division, U.S. Environmental Protection Agency, Region III, 1650 Arch Street, Philadelphia, Pennsylvania 19103. Copies of the State submittal are available at the Maryland Department of the Environment, 1800 Washington Boulevard, Suite 705, Baltimore, Maryland 21230.

FOR FURTHER INFORMATION CONTACT: Emlyn Vélez-Rosa, (215) 814-2038, or by email at velez-rosa.emlyn@epa.gov.

SUPPLEMENTARY INFORMATION: Throughout this document, whenever “we,” “us,” or “our” is used, we mean EPA.

I. Background

On May 8, 2012, the Maryland Department of the Environment (MDE) submitted a formal SIP revision (#12-04) to EPA pertaining to regulation COMAR 26.11.19.23 “Control of Volatile Organic Compounds Emissions from Vehicle Refinishing.” The SIP revision establishes new volatile organic compounds (VOC) content limits for coating and cleaning solvents used in vehicle refinishing and standards for coating application, work practices, monitoring, and recordkeeping. On July 10, 2012 (77 FR 40550), EPA published a notice of proposed rulemaking (NPR) proposing approval of Maryland's revisions to COMAR 26.11.19.23 “Control of Volatile Organic Compounds Emissions from Vehicle Refinishing” as adopted by the State of Maryland on March 26, 2012. The compliance date of the adopted regulation COMAR 26.11.19.23 is July 1, 2013.

II. Summary of SIP Revision

The SIP revision establishes VOC content limits for automotive coatings and cleaning solvents used in vehicle refinishing and standards for coating application, work practices, monitoring, and recordkeeping. Maryland's revisions to COMAR 26.11.19.23 include establishing VOC content limits for 11 categories of automotive coatings and two categories of cleaning solvents which are used in the preparation, application, and drying phases of vehicle refinishing. All affected sources must comply with provisions of this regulation by July 1, 2013. This SIP revision will achieve emission reductions of VOC throughout the State of Maryland.

Maryland's revisions to COMAR 26.11.19.23 are based on the 2009 “Model Rule for Motor Vehicle and Mobile Equipment Non-Assembly Line Coating Operations” (MVMERR) developed in conjunction with member states of the Ozone Transport Commission (OTC). The MVMERR and the adopted regulation COMAR 26.11.19.23 comply with EPA's requirements set forth in 40 CFR Part 59, subpart B “National Volatile Organic Compound Emissions Standards for Automobile Refinish Coatings” and 40 CFR part 63 subpart HHHHHH “National Emission Standards for Hazardous Air Pollutants: Paint Stripping and Miscellaneous Surface Coating Operations at Area Sources.” Specific information concerning revisions to COMAR 26.11.19.23 and the rationale for EPA's proposed action are explained in the NPR and the Technical Support Document for this action, and will not be restated here. No public comments were received on the NPR.

III. Final Action

EPA is approving Maryland's revisions to regulation COMAR 26.11.19.23 “Control of Volatile Organic Compounds Emissions from Vehicle Refinishing” adopted by MDE on March 26, 2012, as a revision to the Maryland SIP. The compliance date for this regulation is July 1, 2013.

IV. Statutory and Executive Order Reviews

A. General Requirements

Under the CAA, the Administrator is required to approve a SIP submission that complies with the provisions of the CAA and applicable Federal regulations. 42 U.S.C. 7410(k); 40 CFR 52.02(a). Thus, in reviewing SIP submissions, EPA's role is to approve state choices, provided that they meet the criteria of the CAA. Accordingly, this action merely approves state law as meeting Federal requirements and does not impose additional requirements beyond those imposed by state law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

C. Petitions for Judicial Review

Under section 307(b)(1) of the CAA, petitions for judicial review of this action must be filed in the United States Court of Appeals for the appropriate circuit by November 26, 2012. Filing a petition for reconsideration by the Administrator of this final rule does not affect the finality of this action for the purposes of judicial review nor does it extend the time within which a petition for judicial review may be filed, and shall not postpone the effectiveness of such rule or action. This action, which approves revisions to regulation COMAR 26.11.19.23, may not be challenged later in proceedings to enforce its requirements. (See section 307(b)(2).)

List of Subjects in 40 CFR Part 52

Environmental protection, Air pollution control, Incorporation by reference, Ozone, Reporting and recordkeeping requirements, Volatile organic compounds.

Dated: August 30, 2012.
W.C. Early,
Acting Regional Administrator, Region III.

40 CFR part 52 is amended as follows:

PART 52—[AMENDED]

1. The authority citation for part 52 continues to read as follows:

Authority: 42 U.S.C. 7401 et seq.

Subpart V—Maryland

2. In § 52.1070, the table in paragraph (c) is amended by revising the entry for COMAR 26.11.19.23 to read as follows:

§ 52.1070 Identification of plan.

* * * * *

(c) * * *

EPA-Approved Regulations, Technical Memoranda, and Statutes in the Maryland SIP
Code of Maryland administrative regulations (COMAR) citation | Title/subject | State effective date | EPA approval date | Additional explanation/ citation at 40 CFR 52.1100
* * * * * * *
26.11.19 Volatile Organic Compounds From Specific Processes
* * * * * * *
26.11.19.23 | Control of VOC Emissions from Vehicle Refinishing | 4/16/12 | 9/26/12 [Insert page number where the document begins] | Entire regulation revised.
* * * * * * *

* * * * *

[FR Doc. 2012-23572 Filed 9-25-12; 8:45 am]

BILLING CODE 6560-50-P